DEPARTMENT OF HOMELAND SECURITY

Coast Guard

33 CFR Parts 100 and 165

[Docket Number USCG-2021-0184]

2020 Quarterly Listings; Safety Zones, Security Zones, and Special Local Regulations

AGENCY: Coast Guard, Department of Homeland Security (DHS).

ACTION: Notification of expired temporary rules issued.

SUMMARY: This document provides notification of substantive rules issued by the Coast Guard that were made temporarily effective but expired before they could be published in the Federal Register. This document lists temporary safety zones, security zones, and special local regulations, all of limited duration and for which timely publication in the Federal Register was not possible.

DATES: This document lists temporary Coast Guard rules that became effective, primarily between April 2020 and June 2020, unless otherwise indicated, and were terminated before they could be published in the Federal Register.

ADDRESSES: Temporary rules listed in this document may be viewed online, under their respective docket numbers, using the Federal eRulemaking Portal at https://www.regulations.gov.

FOR FURTHER INFORMATION CONTACT: For questions on this document contact Yeoman First Class Glenn Grayer, Office of Regulations and Administrative Law, telephone (202) 372-3862.

SUPPLEMENTARY INFORMATION: Coast Guard District Commanders and Captains of the Port (COTP) must be immediately responsive to the safety and security needs within their jurisdiction; therefore, District Commanders and COTPs have been delegated the authority to issue certain local regulations. Safety zones may be established for safety or environmental purposes. A safety zone may be stationary and described by fixed limits or it may be described as a zone around a vessel in motion. Security zones limit access to prevent injury or damage to vessels, ports, or waterfront facilities. Special local regulations are issued to enhance the safety of participants and spectators at regattas and other marine events.

Timely publication of these rules in the Federal Register may be precluded when a rule responds to an emergency, or when an event occurs without sufficient advance notice. The affected public is, however, often informed of these rules through Local Notices to Mariners, press releases, and other means. Moreover, actual notification is provided by Coast Guard patrol vessels enforcing the restrictions imposed by the rule. Because Federal Register publication was not possible before the end of the effective period, mariners were personally notified of the contents of these safety zones, security zones, special local regulations, regulated navigation areas, or drawbridge operation regulations by Coast Guard officials on-scene prior to any enforcement action. However, the Coast Guard, by law, must publish in the Federal Register notice of substantive rules adopted. To meet this obligation without imposing undue expense on the public, the Coast Guard periodically publishes a list of these temporary safety zones, security zones, special local regulations, regulated navigation areas, and drawbridge operation regulations. Permanent rules are not included in this list because they are published in their entirety in the Federal Register. Temporary rules are also published in their entirety if sufficient time is available to do so before they are placed in effect or terminated.

The following unpublished rules were placed in effect temporarily during the period between April 2020 and June 2020 unless otherwise indicated. To view copies of these rules, visit www.regulations.gov and search by the docket number indicated in the following table.

Docket No. | Type | Location | Effective date
USCG-2020-0393 | Safety Zones (Parts 147 and 165) | Oak Island, NC | 7/1/2020
USCG-2020-0177 | Safety Zones (Parts 147 and 165) | Port Maryland, MD | 7/1/2020
USCG-2020-0352 | Safety Zones (Parts 147 and 165) | Mulfordtown, KY | 7/1/2020
USCG-2020-0401 | Safety Zones (Parts 147 and 165) | Sandusky, OH | 7/2/2020
USCG-2020-0362 | Safety Zones (Parts 147 and 165) | Roach, MO | 7/3/2020
USCG-2020-0229 | Safety Zones (Parts 147 and 165) | Madisonville, LA | 7/4/2020
USCG-2020-0396 | Safety Zones (Parts 147 and 165) | Leland, MI | 7/4/2020
USCG-2020-0387 | Safety Zones (Parts 147 and 165) | Sector Columbia River | 7/4/2020
USCG-2020-0286 | Safety Zones (Parts 147 and 165) | Rockport, TX | 7/4/2020
USCG-2020-0390 | Safety Zones (Parts 147 and 165) | Seattle, WA | 7/4/2020
USCG-2020-0375 | Safety Zones (Parts 147 and 165) | St. Clair River, MI | 7/5/2020
USCG-2020-0419 | Safety Zones (Parts 147 and 165) | Hillsboro Beach, FL | 7/10/2020
USCG-2020-0411 | Special Local Regulation | Port Huran | 7/11/2020
USCG-2020-0254 | Safety Zones (Parts 147 and 165) | Pensacola Beach, FL | 7/19/2020
USCG-2020-0024 | Safety Zones (Parts 147 and 165) | Melboune, KY | 7/27/2020
USCG-2020-0409 | Safety Zones (Parts 147 and 165) | Boyce, LA | 7/28/2020
USCG-2020-0343 | Special Local Regulations (Part 100) | Leonardtown, MD | 8/1/2020
USCG-2020-0448 | Safety Zones (Parts 147 and 165) | Bossier City, LA | 8/1/2020
USCG-2020-0480 | Safety Zones (Parts 147 and 165) | Newport, RI | 8/12/2020
USCG-2020-0449 | Safety Zones (Parts 147 and 165) | Bossier City, LA | 8/15/2020
USCG-2020-0481 | Safety Zones (Parts 147 and 165) | Lake Ozark, MO | 8/22/2020
USCG-2020-0512 | Safety Zones (Parts 147 and 165) | Chattanooga, TN | 8/22/2020
USCG-2020-0532 | Safety Zones (Parts 147 and 165) | Bratenahl, OH | 8/22/2020
USCG-2020-0541 | Safety Zones (Parts 147 and 165) | Captain of the Port Zone | 8/22/2020
USCG-2020-0382 | Safety Zones (Parts 147 and 165) | Jacksonville, FL | 8/23/2020
USCG-2020-0533 | Security Zones (Part 165) | Ocean City, MD | 8/23/2020
USCG-2020-0553 | Security Zones (Part 165) | Duluth, MN | 8/28/2020
USCG-2020-0089 | Safety Zones (Parts 147 and 165) | Port Arthur Captain of the Port Zone | 8/28/2020
USCG-2020-0548 | Safety Zones (Parts 147 and 165) | Essexville, MI | 8/29/2020
USCG-2020-0551 | Safety Zones (Parts 147 and 165) | Caddo Parish, LA | 8/31/2020
USCG-2020-0471 | Safety Zones (Parts 147 and 165) | Detroit, MI | 8/31/2020
USCG-2020-0418 | Safety Zones (Parts 147 and 165) | Avoyelles Parish, LA | 8/31/2020
USCG-2020-0505 | Safety Zones (Parts 147 and 165) | Natchez, MS | 9/2/2020
USCG-2020-0538 | Safety Zones (Parts 147 and 165) | Cleveland, OH | 9/5/2020
USCG-2020-0539 | Safety Zones (Parts 147 and 165) | Fairport, OH | 9/5/2020
USCG-2020-0364 | Safety Zones (Parts 147 and 165) | Jupiter, FL | 9/8/2020
USCG-2020-0555 | Safety Zones (Parts 147 and 165) | Helena, AR | 9/15/2020
USCG-2020-0589 | Safety Zones (Parts 147 and 165) | Ingleside, TX | 9/17/2020
USCG-2020-0576 | Safety Zones (Parts 147 and 165) | Chester, PA | 9/19/2020
USCG-2020-0592 | Safety Zones (Parts 147 and 165) | Victoria, TX | 9/22/2020
USCG-2020-0593 | Safety Zones (Parts 147 and 165) | Detroit, MI | 9/26/2020
USCG-2020-0598 | Safety Zones (Parts 147 and 165) | Cleveland, OH | 9/29/2020
USCG-2020-0599 | Safety Zones (Parts 147 and 165) | San Francisco, CA | 9/29/2020
USCG-2020-0352 | Safety Zones (Parts 147 and 165) | Mulfordtown, KY | 7/1/2021

Dated: May 19, 2022.
M.T. Cunningham,
Chief, Office of Regulations and Administrative Law, United States Coast Guard.

[FR Doc. 2022-11111 Filed 5-23-22; 8:45 am]

BILLING CODE P